DEPARTMENT OF COMMERCE

International Trade Administration

[A-570-848]

Freshwater Crawfish Tail Meat From the People's Republic of China: Extension of the Final Results of Antidumping Duty Administrative and New-Shipper Reviews

AGENCY: Import Administration, International Trade Administration, Department of Commerce.

DATES: Effective Date: October 19, 2010.

FOR FURTHER INFORMATION CONTACT: Dmitry Vladimirov, AD/CVD Operations, Office 5, Import Administration, International Trade Administration, U.S. Department of Commerce, 14th Street and Constitution Avenue, NW., Washington, DC 20230; telephone: (202) 482-0665.

SUPPLEMENTARY INFORMATION:

Background

On June 16, 2010, the Department of Commerce (the Department) published in the Federal Register the preliminary results of the administrative and new-shipper reviews of the antidumping duty order on freshwater crawfish tail meat from the People's Republic of China. See Freshwater Crawfish Tail Meat From the People's Republic of China: Preliminary Results of Antidumping Duty Administrative and New-Shipper Reviews, 75 FR 34100 (June 16, 2010) (Preliminary Results). The reviews cover the period September 1, 2008, through August 31, 2009. The final results of the administrative and new-shipper reviews were originally due no later than October 14, 2010.

Extension of Time Limit for Final Results

Section 751(a)(3)(A) of the Tariff Act of 1930, as amended (the Act), requires the Department to issue the final results of an administrative review within 120 days after the date on which the preliminary results are published. If it is not practicable to complete the review within this time period, section 751(a)(3)(A) of the Act allows the Department to extend the time limit for the final results up to 180 days after the date on which the preliminary results are published.

Section 751(a)(2)(B)(iv) of the Act and 19 CFR 351.214(i)(1) require the Department to issue the final results of a new-shipper review within 90 days after the date on which the preliminary results are issued. The Department may extend the deadline for completion of the final results of a new-shipper review to 150 days after the date on which the preliminary results are issued if it determines that the case is extraordinarily complicated. See 19 CFR 351.214(i)(2).

On March 29, 2010, in accordance with 19 CFR 351.214(j)(3), a new shipper, Nanjing Gemsen International Co., Ltd., agreed to waive the applicable time limits for conducting the new-shipper review and consented to the alignment of the new-shipper review with the concurrent administrative review. See Preliminary Results, 75 FR at 34101. Accordingly, we may extend the deadline of October 14, 2010, for completion of the final results of the new-shipper review to coincide with completion of the final results of the administrative review.

We find that it is not practicable to complete these reviews by October 14, 2010, because we require additional time to analyze and address a complicated surrogate-value issue involving the most appropriate methodology for valuing labor for the final results of these reviews. Consequently, in accordance with sections 751(a)(3)(A) and 751(a)(2)(B)(iv) of the Act, the Department is extending the time limit for completion of the final results of the administrative and new-shipper reviews by 60 days to December 13, 2010.

We are issuing and publishing this notice in accordance with sections 751(a)(1), 751(a)(2)(B), and 777(i)(1) of the Act.

Dated: October 13, 2010.
Susan H. Kuhbach,
Acting Deputy Assistant Secretary for Antidumping and Countervailing Duty Operations.

[FR Doc. 2010-26269 Filed 10-18-10; 8:45 am]

BILLING CODE 3510-DS-P